DEPARTMENT OF LABOR

Employment and Training Administration

[NAFTA—05620]

E-M Solutions, Also Known as Sherwood Acquisition; Sanmina TX LP, Sanmina Corporation, Longmont, CO; Amended Certification Regarding Eligibility To Apply for NAFTA-Transitional Adjustment Assistance

In accordance with section 250(A), subchapter D, chapter 2, title II, of the Trade Act of 1974 (19 U.S.C. 2273), the Department of Labor issued a Certification for NAFTA Transitional Adjustment Assistance on April 17, 2002, applicable to workers of E-M Solutions, Longmont, Colorado. The notice published in the Federal Register on May 2, 2002 (67 FR 22115).

At the request of the State agency, the Department reviewed the certification for workers of the subject firm. The workers were engaged in the production of electronic wire and cable assemblies.

New information received from the state shows that the subject firm was also known as several other company entities: Sherwood Acquisition, Sanmina Texas LP and Sanmina Corporation before the company closed in June 2002. Information also shows that workers separated from employment at the subject firm had their wages reported under separate unemployment insurance (UI) tax accounts for Sherwood Acquisition, Sanmina Texas LP and Sanmina Corporation.

Accordingly, the Department is amending the certification determination to properly reflect this matter.

The intent of the Department's certification is to include all workers of E-M Solutions, also known as Sherwood Acquisition, Sanmina Texas LP and Sanmina Corporation, who were adversely affected by a shift in production of electronic wire and cable assemblies to Mexico.

The amended notice applicable to NAFTA—05620 is hereby issued as follows:

All workers of E-M Solutions, also known as Sherwood Acquisition, Sanmina Texas LP and Sanmina Corporation, Longmont, Colorado, who became totally or partially separated from employment on or after December 5, 2000, through April 17, 2004, are eligible to apply for NAFTA-TAA under Section 250 of the Trade Act of 1974.

Signed at Washington, DC, this 25th day of May 2004.
Richard Church,
Certifying Officer, Division of Trade Adjustment Assistance.

[FR Doc. 04-12647 Filed 6-3-04; 8:45 am]

BILLING CODE 4510-30-P